DEPARTMENT OF TRANSPORTATION

Federal Aviation Administration

35th Meeting: RTCA Special Committee 206, Aeronautical Information and Meteorological Data Link Services

AGENCY: Federal Aviation Administration (FAA), U.S. Department of Transportation (DOT).

ACTION: Meeting Notice of RTCA Special Committee 206, Aeronautical Information and Meteorological Data Link Services.

SUMMARY: The FAA is issuing this notice to advise the public of the thirty-fifth meeting of the RTCA Special Committee 206, Aeronautical Information and Meteorological Data Link Services.

DATES: The meeting will be held December 9-13, 8:30 a.m.-5:00 p.m.

ADDRESSES: The meeting will be held at MITRE, 7515 Colshire Drive, McLean, VA 22102-7539.

FOR FURTHER INFORMATION CONTACT: The RTCA Secretariat, 1150 18th Street NW., Suite 910, Washington, DC 20036, or by telephone at (202) 330-0652/(202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of Special Committee 206. The agenda will include the following:

December 09

• Introduction and opening remarks

• Review and approve meeting agenda

• Approval of previous meeting minutes

• SC-206 Action item review

• Approval of previous (Chicago) meeting minutes

• Sub-Groups status and week's plan

• Industry Presentations

10 December

• Sub-Groups meetings

• SG4: SE2020 Eddy Dissipation Rate (EDR) Turbulence Project

• Plenary—SG3 Architecture Document FRAC Resolution

11 December

• Plenary—SG3 Architecture Document FRAC Resolution

• Sub-Group Meetings

12 December

• Plenary—SG3 Architecture Document FRAC Resolution

• Sub-Group Meetings

13 December

• Closing—Plenary

• Sub-Groups reports

• Action Item review

• Future meeting plans and dates

• Industry Coordination & Presentations

• Other business

• Adjourn

Attendance is open to the interested public but limited to space availability. With the approval of the chairman, members of the public may present oral statements at the meeting.

Persons wishing to present statements or obtain information should contact the person listed in the FOR FURTHER INFORMATION CONTACT section. Members of the public may present a written statement to the committee at any time.

Issued in Washington, DC, on November 14, 2013.
Paige Williams,
Management Analyst, NextGen, Business Operations Group, Federal Aviation Administration.

[FR Doc. 2013-27864 Filed 11-20-13; 8:45 am]

BILLING CODE 4910-13-P